DEPARTMENT OF AGRICULTURE

Animal and Plant Health Inspection Service

7 CFR Part 305

[Docket No. APHIS-2007-0084]

RIN 0579-AC57

Consolidation of the Fruit Fly Regulations

Correction

In rule document E8-12858 beginning on page 32431 in the issue of Monday, June 9, 2008, make the following correction:

§ 305.2 [Corrected]

On page 32439, in § 305.2(h)(2)(ii), the table is corrected to appear as follows:

Location | Commodity | Pest | Treatment schedule
Areas in the United States under Federal quarantine for the listed pest. |  |  | .
* * * * * * *
| Any fruit or article listed in § 301.32-2(a) of this chapter | All fruit fly species of the Family Tephritidae | IR.
* * * * * * *

[FR Doc. Z8-12858 Filed 6-19-08; 8:45 am]

BILLING CODE 1505-01-D